DEPARTMENT OF HEALTH AND HUMAN SERVICES

Centers for Disease Control and Prevention

[60 Day-03-49]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Influences on Child Beverage Consumption Survey—New—National Center for Chronic Disease Prevention and Health Promotion (NCCDPHP), Centers for Disease Control and Prevention (CDC).

Overweight and obesity have become a serious problem in the United States among children as well as adults (The Surgeon General's Call to Action to Prevent and Decrease Overweight and Obesity, 2001). As a result, children are experiencing a higher incidence of obesity-related diseases, such as type 2 diabetes, and are at increased risk for high blood pressure and elevated lipid and insulin profiles. In recent years, a growing number of researchers have recognized the potential impact of beverage consumption on this problem. This survey will provide information on parental influences on children's beverage consumption. A nationally-representative sample of 1,690 parents or guardians of children between the ages of 3 and 7 will be questioned by telephone using a computer-assisted telephone interviewing (CATI) methodology. The respondents will be asked about their young children's beverage consumption, and their own related behavior, knowledge, and attitudes. This one-time survey is expected to take place over 2 to 3 months. There is no cost to respondents.

Data collection | Numbers of respondents | Number of respondents/respondent | Average burden/response (in hours) | Total burden (in hours)
Screener Survey Respondents | 2,113 | 1 | 2/60 | 70
Parent Survey Respondents | 1,690 | 1 | 20/60 | 563
Total |  |  |  | 633

Dated: March 6, 2003.
Thomas Bartenfeld,
Acting Associate Director for Planning, Policy and Evaluation, Centers for Disease Control And Prevention.

[FR Doc. 03-5856 Filed 3-11-03; 8:45 am]

BILLING CODE 4163-18-P